NUCLEAR REGULATORY COMMISSION

Application for a License To Export a Utilization Facility

Pursuant to 10 CFR 110.70(b)(1) “Public notice of receipt of an application,” please take notice that the Nuclear Regulatory Commission has received the following request for an export license. Copies of the request are available electronically through ADAMS and can be accessed through the Public Electronic Reading Room (PERR) link http://www.nrc.gov/NRC/ADAMS/index.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

In its review of the application for a license to export a utilization facility as defined in 10 CFR Part 110 and noticed herein, the Commission does not evaluate the health, safety or environmental effects in the recipient nation of the facility to be exported. The information concerning the application follows.

NRC Export License Application for a Utilization Facility
Name of applicant, date of application, date received, application No. docket No. | Description of facility | End use | Country of destination
Westinghouse Electric Company; December 13, 2002; December 16, 2002; XR167; 11005387 | Equipment including primary coolant pump for construction for four (4) nuclear utilization facilites, 1000 Mwe each. Approximate Value: $450,000,000.00 | Shin Kori 1&2 Shin Wolsong 1&2 | Republic of Korea.

Dated this 7th day of January 2003 at Rockville, Maryland.
For the Nuclear Regulatory Commission.
Edward T. Baker,
Deputy Director, Office of International Programs.

[FR Doc. 03-707 Filed 1-13-03; 8:45 am]

BILLING CODE 7590-01-P